DEPARTMENT OF TRANSPORTATION

Federal Aviation Administration

14 CFR Part 71

[Docket No. FAA-2020-0504; Airspace Docket No. 20-AAL-4]

RIN 2120-AA66

Proposed Removal of Colored Federal Airways Amber 7 (A-7), Green 11 (G-11), and Amendment of Amber 1 (A-1); Alaska

AGENCY: Federal Aviation Administration (FAA), DOT.

ACTION: Notice of proposed rulemaking (NPRM).

SUMMARY: This action proposes to remove two Colored Federal airways, A-7 and G-11, and amend one Colored Federal airway, A-1 in Alaska. The modifications are necessary due to the planned decommissioning of to the Campbell Lake Non-Directional Beacon (NDB) in Anchorage, AK, which provides navigation guidance for portions of the affected routes. The Campbell Lake NDB is to be decommissioned effective November 5, 2020 due to ongoing maintenance problems.

DATES: Comments must be received on or before July 27, 2020.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2020-0504; Airspace Docket No. 20-AAL-4 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0504; Airspace Docket No. 20-AAL-4) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0504; Airspace Docket No. 20-AAL-4.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The upcoming decommissioning of the Campbell Lake NDB (CMQ) will require removal of Federal Colored airways A-7 and G-11, and amendment of A-1 to remove associated airway segments.

Colored Federal airway A-7 has only one segment that runs from the Campbell Lake, AK, NDB; to the Mineral Creek, AK, NDB. The airway is seldom used and can be mitigated by utilizing V-481, or T-226, to the Johnstone Point, AK, Very High Frequency Omnidirectional Radio Range (VOR); then V-319, or T-269 to the Anchorage, AK, VOR.

Colored Federal airway G-11 navigates aircraft from the Campbell Lake, AK, NDB, to the Glennallen, AK, NDB, and ends at the Nabesna, AK, NDB. The portion of the airway from the Glennallen, AK, NDB to the Nebesna, AK, NDB is not affected by the Campbell Lake, AK, NDB, however, due to the planned decommissioning of the Glennallen, AK, NDB, this section will also be removed. Loss of this airway can be mitigated by utilizing V-456 to the Big Lake, AK, VOR, to the Gulkana, AK, VOR, then to the Northway, AK, VOR. Furthermore, there is a proposal to realign Federal airway V-456 to match the current route of G-11, which allows for a lower Minimum En Route Altitude for pilots to navigate. This will give pilots an option to navigate at an altitude that does not require the use of supplemental oxygen, since the anticipated MEA will be 9,000 feet Mean Sea Level.

Colored Federal airway A-1 will require removal of the segment between the Orca Bay, AK, NDB and the Takotna River, AK, NDB. Loss of this section can be mitigated by utilizing V-319 or T-269 from the Johnstone Point, AK, VOR to the Anchorage, AK, VOR, then V-440 or T-246 to the McGrath, AK, VOR.

The Proposal

The FAA is proposing an amendment to Title 14 Code of Federal Regulations (14 CFR) part 71 to remove Colored Federal airways A-7 and G-11, and amend Colored Federal airway A-1. The proposed Colored Federal airway actions are described below.

A-7: A-7 currently extends between the Campbell Lake, AK, NDB and the Mineral Creek, AK, NDB. This action proposes to remove the entire route.

G-11: G-11 currently extends between the Campbell Lake, AK, NDB and the Nabesna, AK, NDB. This action proposes to remove the entire route.

A-1: A-1 currently extends from the Abbotsford, BC, Canada, NDB and the Fort Davis, AK, NDB. The FAA proposes to remove the segment between the Orca Bay, AK, NDB and the Takotna River, AK, NDB. The unaffected portions of the existing route would remain as charted. The portion within Canada is excluded.

Colored Federal airways are published in paragraph 6009 of FAA Order 7400.11D dated August 8, 2019, and effective September 15, 2019, which is incorporated by reference in 14 CFR part 71.1. The Colored Federal Airways listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6009 Colored Federal Airways.

* * * * *

A-1 [Amended]

From Abbotsford, BC Canada NDB, to Victoria, BC Canada NDB, Sandspit, BC, Canada, NDB 96 miles 12 AGL, 102 miles 35 MSL, 57 miles 12 AGL, via Sitka, AK, NDB; 31 miles 12 AGL, 50 miles 47 MSL, 88 miles 20 MSL, 40 miles 12 AGL, Ocean Cape, AK, NDB; INT Ocean Cape NDB 283° and Orca Bay, AK, NDB 106° bearings; Orca Bay NDB; From Takotna River, AK, NDB; 24 miles 12 AGL, 53 miles 55 MSL; 51 miles 40 MSL, 25 miles 12 AGL, North River, AK, NDB; 17 miles 12 AGL, 89 miles 25 MSL, 17 miles 12 AGL, to Fort Davis, AK, NDB. Excluding that airspace within Canada.

* * * * *

G-7 [Removed]

* * * * *

G-11 [Removed]

* * * * *

Issued in Washington, DC, on June 3, 2020.
Scott M. Rosenbloom,
Acting Manager, Rules and Regulations Group.

[FR Doc. 2020-12700 Filed 6-11-20; 8:45 am]

BILLING CODE 4910-13-P